DEPARTMENT OF HOUSING AND URBAN DEVELOPMENT

[Docket No. FR-7024-N-24]

30-Day Notice of Proposed Information Collection: Evaluation of the Supportive Services Demonstration OMB Control Number—2528-0321

AGENCY: Office of the Chief Information Officer, HUD.

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: July 23, 2020.

ADDRESSES: Interested persons are invited to submit comments regarding this proposal. Written comments and recommendations for the proposed information collection should be sent within 30 days of publication of this notice to www.reginfo.gov/public/do/Start Printed Page 15501PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on February 14, 2020.

A. Overview of Information Collection

Title of Information Collection: Evaluation of the Supportive Services Demonstration.

OMB Approval Number: 2528-0321.

Type of Request: Revision.

Form Number: N/A

Description of the need for the information and proposed use: This request is for the clearance of additional data collection for the evaluation of HUD's Supportive Services Demonstration (SSD), also referred to as Integrated Wellness in Supportive Housing (IWISH). The SSD is a three-year demonstration sponsored by HUD to test the impact of a new model of housing-based supportive services on the healthcare utilization and housing stability of low-income older adults. The goal of the SSD model is to help older adults in HUD-assisted housing to age in place successfully. The SSD model funds a full-time Resident Wellness Director (RWD) and part-time Wellness Nurse (WN) to work in HUD-assisted housing developments that either predominantly or exclusively serve households headed by people aged 62 or over. These services are not typically available in HUD-assisted housing developments for this population and are anticipated to positively impact outcomes.

Eligible HUD-assisted properties applied for the demonstration and were randomly assigned to one of three groups: A “treatment group” that received grant funding to hire a RWD and WN and implement the SSD model (40 properties); an “active control” group that did not receive grant funding but received a stipend to participate in the evaluation (40 properties); and a “passive control” group that received neither grant funding nor a stipend (44 properties). The random assignment permits an evaluation that quantifies the impact of the SSD model by comparing outcomes at the 40 treatment group properties to outcomes at the 84 properties in the active and passive control groups.

Under contract with HUD's Office of Policy Development and Research, Abt Associates Inc. is conducting a two-part evaluation—a process study to describe the implementation of the demonstration and an impact study to measure the impact of the SSD model on residents' use of healthcare services and housing stability. The evaluation features analysis of administrative data and primary data collection. The following primary data collection activities have already received OMB approval: Questionnaires with staff from the treatment and active control properties, site visits and in-depth interviews with staff from the treatment and active control properties, and focus groups with residents of the treatment and active control properties and with caregivers of residents of the treatment properties. This request is for a final round of data collection through: (1) Interviews with RWD at the 40 treatment group properties; (2) interviews with WN at the 40 treatment group properties; (3) interviews with Service Coordinators at the 40 active control properties; and (4) interviews with representatives of the 28 organizations that own or manage the 40 treatment properties. The purpose of these activities is to collect data from multiple perspectives about implementation experience with the demonstration, the strengths and weakness of the model, and how resident wellness activities compare across treatment and control properties. This information is necessary to complete the study of the demonstration's implementation—providing input from key stakeholders as of the end of the demonstration. The new information will complement the research already collected at the start and mid-point of the demonstration and will offer stakeholders a final opportunity to provide their input on the demonstration.

Information collection | Number of respondents | Frequency of response | Responses per annum | Burden hour per response | Annual burden hours | Hourly cost per response | Cost
Interviews with Resident Wellness Directors | 54.00 | 1.00 | 54.00 | 1.50 | 81.00 | $36.93 | 2,991.33
Interviews with Wellness Nurses | 42.00 | 1.00 | 42.00 | 1.50 | 63.00 | $57.12 | 3,598.56
Interviews with Service Coordinators | 40.00 | 1.00 | 40.00 | 1.50 | 60.00 | $36.93 | 2,215.80
Interviews with owner organizations | 20.00 | 1.00 | 20.00 | 1.50 | 30.00 | $61.11 | 1,833.30
Total | 156.00 |  |  |  | 234.00 |  | 10,638.99

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

(5) Ways to minimize the burden of the collection of information on those who are to respond, including the use of automated collection techniques or other forms of information technology.

HUD encourages interested parties to submit comment in response to these questions.

C. Authority

Section 3507 of the Paperwork Reduction Act of 1995, 44 U.S.C. Chapter 35.

Anna P. Guido,
Department Reports Management Officer, Office of the Chief Information Officer.

[FR Doc. 2020-13467 Filed 6-22-20; 8:45 am]

BILLING CODE 4210-67-P